DEPARTMENT OF THE INTERIOR

Bureau of Land Management

[OR-030-1020-XX-028H; HAG 04-0291]

Council Meeting Notice

AGENCY: Bureau of Land Management (BLM), Vale District.

ACTION: Conference call for the John Day/Snake Resource Advisory Council.

SUMMARY: The John Day/Snake Resource Advisory Council will have a conference call on November 8, 2004 at 7 p.m. Pacific Time.

The conference call participants will discuss the Draft Forest Service Vegetation Treatment Environmental Impact Statement (EIS).

The entire conference call is open to the public. To participate in the conference call, please submit a written request to the Vale District Office 10 days prior to the call.

FOR FURTHER INFORMATION CONTACT: Peggy Diegan, Management Assistant/Webmaster, Vale District Office, 100 Oregon Street, Vale, OR 97918 (541) 473-3144, or e-mail Peggy_Diegan@or.blm.gov.

Dated: September 29, 2004.
Tom Dabbs,
Acting District Manager.

[FR Doc. 04-22352 Filed 10-4-04; 8:45 am]

BILLING CODE 4310-33-P